DEPARTMENT OF HEALTH AND HUMAN SERVICES

Indian Health Service

Tribal Management Grant Program

AGENCY: Indian Health Service, HHS.

ACTION: Notice; Correction.

SUMMARY: The Indian Health Service, HHS, published a document in the Federal Register Thursday, April 16, 2009. The document contained two errors.

FOR FURTHER INFORMATION CONTACT: Patricia Spotted Horse, Program Analyst, Tribal Management Grant Program, Office of Tribal Programs, Indian Health Service, Reyes Building, 801 Thompson Avenue, Suite 220, Rockville, MD 20852, Telephone (301) 443-1104. (This is not a toll-free number.)

Correction

In the Federal Register of Thursday, April 16, 2009, in FR Doc. E9-8641 on page 17676, in the third column, second paragraph, first sentence, “45 CFR Part 75” should read “45 CFR Part 74.”

On page 17684, in the first column, regarding the IHS Checklist midway down the column, there is a duplicate signature line: IHS Program Office Signature/Date: __; delete the duplicate signature line.

Dated: May 1, 2009.
Robert G. McSwain,
Director, Indian Health Service.

[FR Doc. E9-10601 Filed 5-7-09; 8:45 am]

BILLING CODE 4165-16-M